DEPARTMENT OF THE INTERIOR

Bureau of Ocean Energy Management, Regulation, and Enforcement

30 CFR Parts 201, 202, 203, 204, 206, 207, 208, 210, 212, 217, 218, 219, 220, 227, 228, 229, 241, 243, and 290

Office of Natural Resources Revenue

30 CFR Parts 1201, 1202, 1203, 1204, 1206, 1207, 1208, 1210, 1212, 1217, 1218, 1219, 1220, 1227, 1228, 1229, 1241, 1243, and 1290

[Docket No. MMS-2010-MRM-0033]

RIN 1010-AD70

Reorganization of Title 30, Code of Federal Regulations

Correction

In rule document 2010-24721 beginning on page 61051 in the issue of Monday, October 4, 2010, make the following corrections:

PART 1206—PRODUCT VALUATION [CORRECTED]

Amendment Table for Part 1206 [Corrected]

1. On page 61070, in the table, in the first column “Amend”:

a. In the fourth row, “§ 1206.52(c)(2)” should read “§ 1206.52(c)(2)(i)”.

b. In the 11th row, “§ 1206.53(e)(5) two times” should read “§ 1206.52(e)(5) two times”.

c. In both the 15th and 16th rows, “§ 1206.52(c) introductory text” should read “§ 1206.53(c) introductory text”.

2. On page 61071, in the table, in the third column “And adding in its place:”:

a. In the 18th row from the bottom of the page, “part 207” should read “part 1207.”

b. In the seventh row from the bottom of the page, the blank entry should read “ONRR.”

3. On page 61072, in the table, in the third column “And adding in its place:”, in the 22nd row, the blank entry should read “§ 1206.111”.

4. On page 61073, in the table, in the third column “And adding in its place:”, in the 16th row, “Associate Director” should read “Director”.

PART 1208—SALE OF FEDERAL ROYALTY OIL [CORRECTED]

Amendment Table for Part 1208 [Corrected]

5. On page 61081, in the table, in the third column “And adding in its place:”:

a. In the first row, “§ 208.8(a)” should read “§ 1208.8(a)”.

b. In the fifth row, “§ 208.7(g)” should read “§ 1208.7(g)”.

[FR Doc. C1-2010-24721 Filed 11-18-10; 8:45 am]

BILLING CODE 1505-01-D